DEPARTMENT OF HEALTH AND HUMAN SERVICES

Indian Health Service

Epidemiology Program for American Indian/Alaska Native Tribes and Urban Indian Communities; Correction

AGENCY: Indian Health Service, HHS.

ACTION: Notice; correction.

SUMMARY: The Indian Health Service published a document in the Federal Register on June 8, 2011, concerning competitive cooperative agreement applications to establish Tribal Epidemiology Centers serving American Indian/Alaska Native Tribes and urban Indian communities. The document contained one incorrect date.

FOR FURTHER INFORMATION CONTACT: Betty Gould, 301-443-1116.

Correction

In the Federal Register of June 8, 2011, in FR Doc. 2011-14131, on page 33318, in the first column, last complete sentence in the paragraph “Letters of Intent,” correct the sentence to read:

“The LoI must be submitted to the Division of Grants Management to the attention of Andrew Diggs by June 17, 2011.”

Dated: June 9, 2011.
Betty Z. Gould,
Federal Register Liaison Officer, Indian Health Service.

[FR Doc. 2011-14794 Filed 6-15-11; 8:45 am]

BILLING CODE 4165-16-M